DEPARTMENT OF AGRICULTURE

Submission for OMB Review; Comment Request

April 1, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 6, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service

Title: Conservation Auction Behavior: Effects of Default Offers and Score Updating.

OMB Control Number: 0536-NEW.

Summary of Collection: Data collection for this project is conducted under the authority of the 7 U.S.C. 2204(a). This data collection will use an online simulated auction experiment with former participants in the USDA Conservation Reserve Program (CRP) general signup to (1) Study the anchoring effect of using a high-scoring default offer in the CRP enrollment software rather than an active-choice default, and (2) study how the timing of information about final ranking score in the software influences responsive to baseline ranking scores. Outputs for the experiment will be used to inform potential updates to the CRP software and enrollment software as well as future lab experiments on general conservation auctions.

Need and Use of the Information: This study will collect data on choice made using a lab-in-the-field experiment, in which the study participants, farmers who have previously participated in a recent CRP signup, will be asked to make a set of hypothetical offers to a simulated CRP signup. The data collection is being conducted by USDA Economic Research Service in collaboration with researchers from the University of Delaware's Center for Behavioral and Experimental Agrienvironmental Research. This information will potentially be of use to USDA's Farm Service Agency when conducting signups for CRP.

If this study is not conducted, USDA would lack context-specific research when considering program spending on software redesign to change the defaults used in the enrollment software or training of field agents to change the defaults used when advising farmers on program enrollment.

Description of Respondents: Farmers or Farmland Owners.

Number of Respondents: 11,000.

Frequency of Responses: Reporting: On occasion.

Total Burden Hours: 1,467.

Ruth Brown,
Departmental Information Collection Clearance Officer.

[FR Doc. 2022-07301 Filed 4-5-22; 8:45 am]

BILLING CODE 3410-18-P